DEPARTMENT OF COMMERCE

Foreign-Trade Zones Board

[S-104-2020]

Foreign-Trade Zone 27—Boston, Massachusetts; Application for Subzone; Ipswich Shellfish Company, Inc.; Ipswich, Massachusetts

An application has been submitted to the Foreign-Trade Zones (FTZ) Board (the Board) by the Massachusetts Port Authority, grantee of FTZ 27, requesting subzone status for the facility of Ipswich Shellfish Company, Inc., located in Ipswich, Massachusetts. The application was submitted pursuant to the provisions of the Foreign-Trade Zones Act, as amended (19 U.S.C. 81a-81u), and the regulations of the Board (15 CFR part 400). It was formally docketed on June 11, 2020.

The proposed subzone (0.19 acres) is located at 9 & 11 Hayward Street, Ipswich, Essex County, Massachusetts. No authorization for production activity has been requested at this time. The proposed subzone would be subject to the existing activation limit of FTZ 27.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is July 27, 2020. Rebuttal comments in response to material submitted during the foregoing period may be submitted during the subsequent 15-day period to August 11, 2020.

A copy of the application will be available for public inspection in the “Reading Room” section of the Board's website, which is accessible via www.trade.gov/ftz.

For further information, contact Elizabeth Whiteman at Elizabeth.Whiteman@trade.gov or (202) 482-0473.

Dated: June 11, 2020.
Andrew McGilvray,
Executive Secretary.

[FR Doc. 2020-13077 Filed 6-16-20; 8:45 am]

BILLING CODE 3510-DS-P